ENVIRONMENTAL PROTECTION AGENCY

[EPA-HQ-OPPT-2008-0717; FRL-8393-3]

Agency Information Collection Activities; Proposed Collection; Comment Request; Pressed Wood Manufacturing Industry Survey; EPA ICR No. 2328.01, OMB Control No. 2070-new

AGENCY: Environmental Protection Agency (EPA).

ACTION: Notice.

SUMMARY: In compliance with the Paperwork Reduction Act (PRA) (44 U.S.C. 3501 et seq.), this document announces that EPA is planning to submit a request for a new Information Collection Request (ICR) to the Office of Management and Budget (OMB). This ICR is entitled: “Pressed Wood Manufacturing Industry Survey” and is identified by EPA ICR No. 2328.01 and OMB Control No. 2070-new. Before submitting the ICR to OMB for review and approval, EPA is soliciting comments on specific aspects of the proposed information collection.

DATES: Comments must be received on or before February 23, 2009.

ADDRESSES: Submit your comments, identified by docket identification (ID) number EPA-HQ-OPPT-2008-0717, by one of the following methods:

• Federal eRulemaking Portal: http://www.regulations.gov. Follow the on-line instructions for submitting comments.

• Mail: Document Control Office (7407M), Office of Pollution Prevention and Toxics (OPPT), Environmental Protection Agency, 1200 Pennsylvania Ave., NW., Washington, DC 20460-0001.

• Hand Delivery: OPPT Document Control Office (DCO), EPA East, Rm. 6428, 1201 Constitution Ave., NW., Washington, DC. Attention: Docket ID Number EPA-HQ-OPPT-2008-0717. The DCO is open from 8 a.m. to 4 p.m., Monday through Friday, excluding legal holidays. The telephone number for the DCO is (202) 564-8930. Such deliveries are only accepted during the DCO's normal hours of operation, and special arrangements should be made for deliveries of boxed information.

Instructions: Direct your comments to docket ID number EPA-HQ-OPPT-2008-0717. EPA's policy is that all comments received will be included in the public docket without change and may be made available on-line at http://www.regulations.gov, including any personal information provided, unless the comment includes information claimed to be Confidential Business Information (CBI) or other information whose disclosure is restricted by statute. Do not submit information that you consider to be CBI or otherwise protected through regulations.gov or e-mail. The regulations.gov website is an “anonymous access” system, which means EPA will not know your identity or contact information unless you provide it in the body of your comment. If you send an e-mail comment directly to EPA without going through regulations.gov, your e-mail address will be automatically captured and included as part of the comment that is placed in the public docket and made available on the Internet. If you submit an electronic comment, EPA recommends that you include your name and other contact information in the body of your comment and with any disk or CD-ROM you submit. If EPA cannot read your comment due to technical difficulties and cannot contact you for clarification, EPA may not be able to consider your comment. Electronic files should avoid the use of special characters, any form of encryption, and be free of any defects or viruses. For additional information about EPA's public docket, visit the EPA Docket Center homepage at http://www.epa.gov/epahome/dockets.htm.

Docket: All documents in the docket are listed in the docket index available at http://www.regulations.gov. Although listed in the index, some information is not publicly available, e.g, CBI or other information whose disclosure is restricted by statute. Certain other material, such as copyrighted material, will be publicly available only in hard copy. Publicly available docket materials are available electronically at http://www.regulations.gov, or, if only available in hard copy, at the OPPT Docket. The OPPT Docket is located in the EPA Docket Center (EPA/DC) at Rm. 3334, EPA West Bldg., 1301 Constitution Ave., NW., Washington, DC. The EPA/DC Public Reading Room hours of operation are 8:30 a.m. to 4:30 p.m., Monday through Friday, excluding Federal holidays. The telephone number of the EPA/DC Public Reading Room is (202) 566-1744, and the telephone number for the OPPT Docket is (202) 566-0280. Docket visitors are required to show photographic identification, pass through a metal detector, and sign the EPA visitor log. All visitor bags are processed through an X-ray machine and subject to search. Visitors will be provided an EPA/DC badge that must be visible at all times in the building and returned upon departure.

FOR FURTHER INFORMATION CONTACT: For general information contact: Colby Lintner, Regulatory Coordinator, Environmental Assistance Division (7408M), Office of Pollution Prevention and Toxics, Environmental Protection Agency, 1200 Pennsylvania Ave., NW., Washington, DC 20460-0001; telephone number: (202) 554-1404; e-mail address: TSCA-Hotline@epa.gov.

For technical information contact: William Silagi, Economics, Exposure and Technology Division (7406M), Office of Pollution Prevention and Toxics, Environmental Protection Agency, 1200 Pennsylvania Ave., NW., Washington, DC 20460-0001; telephone number: (202) 564-8788; fax number: (202) 564-8893; e-mail address: silagi.willaim@epa.gov.

SUPPLEMENTARY INFORMATION:

I. What Information is EPA Particularly Interested in?

Pursuant to section 3506(c)(2)(A) of PRA, EPA specifically solicits comments and information to enable it to:

1. Evaluate whether the proposed collection of information is necessary for the proper performance of the functions of the Agency, including whether the information will have practical utility.

2. Evaluate the accuracy of the Agency's estimates of the burden of the proposed collection of information, including the validity of the methodology and assumptions used.

3. Enhance the quality, utility, and clarity of the information to be collected.

4. Minimize the burden of the collection of information on those who are to respond, including through the use of appropriate automated electronic, mechanical, or other technological collection techniques or other forms of information technology, e.g., permitting electronic submission of responses. In particular, EPA is requesting comments from very small businesses (those that employ less than 25) on examples of specific additional efforts that EPA could make to reduce the paperwork burden for very small businesses affected by this collection.

II. What Should I Consider when I Prepare My Comments for EPA?

You may find the following suggestions helpful for preparing your comments:

1. Explain your views as clearly as possible and provide specific examples.

2. Describe any assumptions that you used.

3. Provide copies of any technical information and/or data you used that support your views.

4. If you estimate potential burden or costs, explain how you arrived at the estimate that you provide.

5. Provide specific examples to illustrate your concerns.

6. Offer alternative ways to improve the collection activity.

7. Make sure to submit your comments by the deadline identified under DATES.

8. To ensure proper receipt by EPA, be sure to identify the docket ID number assigned to this action in the subject line on the first page of your response. You may also provide the name, date, and Federal Register citation.

III. What Information Collection Activity or ICR Does this Action Apply to?

Affected entities: Entities potentially affected by this ICR are facilities engaged in the manufacturing of pressed wood products, including glued-laminated timber (glulam beams), hardboard, hardwood plywood (both veneer and composite core), laminated veneer lumber, medium density fiberboard, oriented strandboard (including waferboard), oriented strand lumber, particleboard, and softwood plywood. The North American Industrial Classification System (NAICS) codes associated with industries most likely affected by this information collection are:

• Hardwood veneer and plywood manufacturing (NAICS code 321211).

• Softwood veneer and plywood manufacturing (NAICS code 321212).

• Engineered wood member (except truss) manufacturing (NAICS code 321213).

• Reconstituted wood product manufacturing (NAICS code 321219).

Facilities with other primary NAICS codes may also be affected if they engage in pressed wood manufacturing as a secondary activity.

Title: Pressed Wood Manufacturing Industry Survey.

ICR numbers: EPA ICR No. 2328.01, OMB Control No. 2070-new.

ICR status: This ICR is for a new information collection activity. An Agency may not conduct or sponsor, and a person is not required to respond to, a collection of information, unless it displays a currently valid OMB control number. The OMB control numbers for EPA's regulations in title 40 of the Code of Federal Regulations (CFR), after appearing in the Federal Register when approved, are listed in 40 CFR part 9, are displayed either by publication in the Federal Register or by other appropriate means, such as on the related collection instrument or form, if applicable. The display of OMB control numbers for certain EPA regulations is consolidated in 40 CFR part 9.

Abstract: Pressed wood is an engineered wood product made from wood veneers, particles, or wood fibers bonded together with an adhesive under heat and pressure. Pressed wood includes fiberboard, glued laminated timber, hardboard, laminated veneer lumber, medium density fiberboard, oriented strand board, parallel strand lumber, particleboard, hardwood and softwood plywood, prefabricated I-joists, and waferboard. Resins serve to bind together raw wood materials, such as wood shavings, flakes, wafers, chips, particles, veneers, fibers, strands, or sawdust, to form the pressed wood product. There are several types of formaldehyde-based resins, as well as alternative resins that are not formaldehyde-based. Formaldehyde emissions are a concern because formaldehyde is both an irritant and a probable human carcinogen.

EPA has initiated a proceeding to investigate whether and what type of regulatory or other action might be appropriate to protect against risks posed by formaldehyde emitted from pressed wood products as stated in the Federal Register document entitled Formaldehyde Emissions from Composite Wood Products; Disposition of TSCA Section 21 Petition (73 FR 36504, June 27, 2008) (FRL-8371-5). As part of this investigation, EPA seeks to survey U.S. pressed wood manufacturers. EPA plans to collect information on the categories and volume of pressed wood manufactured; the types of resins used in the manufacturing process; the formaldehyde emissions levels from the pressed wood; recent or planned changes to reduce formaldehyde emissions and the resulting costs; and any issues that may affect the ability to reduce formaldehyde emissions. The survey will be sent to all U.S. pressed wood manufacturers identified by EPA (i.e., it will be a census).

Many pressed wood manufacturers are expected to modify their production processes in the coming years in response to factors including the growing demand for green building products, implementation of a California Air Resources Board (CARB) rule to control formaldehyde emissions, and European and Japanese standards for formaldehyde emissions from pressed wood. The information collected through the survey will allow EPA to predict a future baseline for the types of resins that will be used in pressed wood, and the levels of formaldehyde that will be emitted from them. EPA will also use this information to assess the incremental benefits and costs of potential actions at the national level on formaldehyde emissions from pressed wood products. This information is necessary to inform Agency decisionmaking about the need for and scope of regulatory or other actions to protect against risks posed by formaldehyde emitted from pressed wood products.

EPA will use the information obtained through this industry survey (along with information submitted in response to EPA's Advanced Notice of Proposed Rulemaking (ANPR) for Formaldehyde Emissions from Pressed Wood Products, which published in the Federal Register on December 3, 2008 (73 FR 73620) (FRL-8386-3), and other data sources) to develop an industry profile, and to assess the costs and benefits of potential federal actions regarding formaldehyde emissions from pressed wood products. EPA anticipates receiving useful information through the ANPR process, but it does not expect to receive the detailed plant level data that will be collected from across the pressed wood industry by this survey. EPA believes that the public comments on the ANPR will be informative, but will not provide information in sufficient depth, breadth, and uniformity to substitute for this survey.

This survey asks for readily obtainable information, e.g., information known or easily accessed by technical, managerial, or supervisory employees of the plant who are responsible for manufacturing, processing, technical services, or marketing. The plant does not have to generate new information to complete the survey. For example, the survey asks for information on formaldehyde emission levels from pressed wood products. If the plant has not already tested its products for formaldehyde emissions, it does not need to test them in order to respond to this survey.

EPA will request that all U.S. pressed wood manufacturers voluntarily complete the survey. If EPA does not achieve a sufficient survey response rate to accurately characterize the industry, EPA will consider whether to exercise the authority available to it under the Toxic Substances Control Act (TSCA) section 11(c), 15 U.S.C. 2610(c). TSCA section 11(c) provides EPA with the authority to issue subpoenas requiring the production of reports, papers, documents, answers to questions, and other information that the Administrator deems necessary. EPA could potentially use its TSCA section 11(c) authority to issue subpoenas requiring recipients (i.e., non-respondents) to complete and return the survey.

Respondents may elect to claim certain submitted information as CBI if there is a legitimate need to do so as described in EPA's regulations at 40 CFR part 2. These claims will be handled according to EPA procedures described in the regulation at 40 CFR part 2. EPA will disclose information that is covered by a claim of confidentiality only to the extent permitted by, and in accordance with, the procedures in TSCA section 14, 15 U.S.C. 2613, and the regulation at 40 CFR part 2. EPA has a well-established system to prevent unauthorized disclosure of TSCA CBI, including procedures for access, tracking, photocopying, storing, and transmitting TSCA CBI.

Burden statement: The annual public reporting and recordkeeping burden for this collection of information is estimated to average 19.6 hours per response. Burden means the total time, effort, or financial resources expended by persons to generate, maintain, retain, or disclose or provide information to or for a Federal agency. This includes the time needed to review instructions; develop, acquire, install, and utilize technology and systems for the purposes of collecting, validating, and verifying information, processing and maintaining information, and disclosing and providing information; adjust the existing ways to comply with any previously applicable instructions and requirements which have subsequently changed; train personnel to be able to respond to a collection of information; search data sources; complete and review the collection of information; and transmit or otherwise disclose the information.

The ICR provides a detailed explanation of this estimate, which is only briefly summarized here:

Estimated total number of potential respondents: 343.

Frequency of response: One time.

Estimated total average number of responses for each respondent: 1.

Estimated total annual burden hours: 6,723 hours.

Estimated total annual costs: $375,242. This cost is due to reporting burden and not capital investment or maintenance and operational costs.

IV. What is the Next Step in the Process for this ICR?

EPA will consider the comments received and amend the ICR as appropriate. The final ICR package will then be submitted to OMB for review and approval pursuant to 5 CFR 1320.12. EPA will issue another Federal Register notice pursuant to 5 CFR 1320.5(a)(1)(iv) to announce the submission of the ICR to OMB and the opportunity to submit additional comments to OMB. If you have any questions about this ICR or the approval process, please contact the technical person listed under FOR FURTHER INFORMATION CONTACT.

List of Subjects

Environmental protection, Reporting and recordkeeping requirements.

Dated: December 15, 2008.
James B. Gulliford,
Assistant Administrator, Office of Prevention, Pesticides and Toxic Substances.

[FR Doc. E8-30499 Filed 12-23-08; 8:45 am]

BILLING CODE 6560-50-S